EQUAL EMPLOYMENT OPPORTUNITY COMMISSION

Agency Information Collection Activities: Proposed Collection; Submission for OMB Review

AGENCY: Equal Employment Opportunity Commission.

ACTION: No Final Notice of Submission for OMB Review—Extension Without Change: Elementary-Secondary Staff Information Report (EEO-5).

SUMMARY: In accordance with the Paperwork Reduction Act, the Equal Employment Opportunity Commission (EEOC or Commission) hereby gives notice that it has submitted to the Office of Management and Budget (OMB) a request for an extension through 2014 of the existing collection requirements under 29 CFR part 1602, Recordkeeping and Reporting Requirements under Title VII. The Commission has requested an extension of an existing collection as listed below.

DATES: Written comments on this notice must be submitted on or before May 25, 2011.

ADDRESSES: The Request for Clearance (SF83-I), supporting statement, and the other documents submitted to OMB for this review may be obtained from: Ronald Edwards, Director, Program Research and Surveys Division, 131 M Street, NE., Washington, DC 20507. Comments on this final notice must be submitted to Chad A Lallemand, Office of Information and Regulatory Affairs, Office of Management and Budget, 725 17th Street, NW., Room 10235, New Executive Office Building, Washington, DC 20503 or electronically mailed to, Chad_A_Lallemand@omb.eop.gov. Copies of comments should be sent to Stephen Llewellyn, Executive Officer, Executive Secretariat, Equal Employment Opportunity Commission, 131 M Street, NE., Washington, DC 20507. As a convenience to commentors, the Executive Secretariat will accept comments totaling six or fewer pages by facsimile (“FAX”) machine. This limitation is necessary to assure access to the equipment. The telephone number of the fax receiver is (202) 663-4114. (This is not a toll-free number). Receipt of FAX transmittals will not be acknowledged, except that the sender may request confirmation of receipt by calling the Executive Secretariat staff at (202) 663-4070 (voice) or (202) 663-4074 (TTD). (These are not toll-free telephone numbers.) Instead of sending written comments to EEOC, you may submit comments and attachments electronically at http://www.regulations.gov, which is the Federal eRulemaking Portal. Follow the instructions online for submitting comments. All comments received through this portal will be posted without change, including any personal information you provide. Copies of comments submitted by the public to EEOC directly or through the Federal eRulemaking Portal will be available for review, by advance appointment only, at the Commission's library between the hours of 9 a.m. and 5 p.m. EST or can be reviewed at http://www.regulations.gov. To schedule an appointment to inspect the comments at EEOC's library, contact the library staff at (202) 663-4630 (voice) or (202) 663-4641 (TTY). (These are not toll-free numbers.)

FOR FURTHER INFORMATION CONTACT: Ronald Edwards, Director, Program Research and Surveys Division, 131 M Street, NE., Room 4SW30F, Washington, DC 20507; (202) 663-4958 (voice) or (202) 663-7063 (TTY).

SUPPLEMENTARY INFORMATION: A notice that EEOC would be submitting this request was published in the Federal Register on February 4, 2011 allowing for a 60-day public comment period. There were no comments received from the public.

Overview of Information Collection

Type of Review: Extension—No change.

OMB Control NO.: 3046-0003.

Collection Title: Elementary-Secondary Staff Information Report (EEO-5).

Frequency of Report: Biennial.

Type of Respondent: Certain public elementary and secondary school districts.

Description of Affected Public: Certain public elementary and secondary school districts.

Number of Responses: 7,155.

Reporting Hours: 10,000.

Cost to the Respondents: $190,000.

Federal Cost: $170,000.

Number of Forms: 1.

Form Number: EEOC Form 168A.

Abstract: Section 709 (c) of Title VII of the Civil Rights Act of 1964, as amended, 42 U.S.C. 2000e-8(c), requires employers to make and keep records relevant to a determination of whether unlawful employment practices have been or are being committed, to preserve such records, and to produce reports as the Commission prescribes by regulation or order. Accordingly, the EEOC issued regulations, Title 29, Chapter XIV, Subpart F, § 1602.39-45, prescribing the reporting requirements for elementary and secondary public school districts. The EEOC uses EEO-5 data to investigate charges of employment discrimination against elementary and secondary public school districts. The data also are used for research. The data are shared with the Department of Education (Office for Civil Rights) and the Department of Justice. Pursuant to Section 709(d) of Title VII of the Civil Rights Act of 1964, as amended, EEO-5 data also are shared with state and local Fair Employment Practices Agencies (FEPAs).

Burden Statement: The estimated number of respondents included in the biennial EEO-5 survey is 7,155 public elementary and secondary school districts. The form is estimated to impose 10,000 burden hours biennially.

Dated: April 19, 2011.
For the Commission.
Jacqueline A. Berrien,
Chair.

[FR Doc. 2011-9948 Filed 4-22-11; 8:45 am]

BILLING CODE 6750-01-P